NATIONAL SCIENCE FOUNDATION

Physics Proposal Review Panel; Notice of Meeting

In accordance with the Federal Advisory Committee Act (Pub. L. 92-463, as amended), the National Science Foundation announces the following meeting.

Name: LIGO Annual Review Policy on access to LIGO Data for Physics (1208).

Date and Time: Tuesday, February 17, 2009; 8:30 a.m.-5 p.m.

Wednesday, February 18, 2009; 8:30 a.m.-3 p.m.

Place: National Science Foundation Rm. II-535 and Room 130.

Type of Meeting: Open.

Contact Person: Dr. Beverly Berger, Program Director for Gravitational Physics, National Science Foundation, 4201 Wilson Blvd., Arlington, VA 22230. Telephone: (703) 292-7372.

Purpose of Meeting: To provide advice and recommendations concerning NSF support of the LIGO project.

Agenda: To review and evaluate LIGO's practices and proposed policies regarding the availability of data.

Dated: January 21, 2009,
Susanne Bolton,
Committee Management Officer.

[FR Doc. E9-1658 Filed 1-26-09; 8:45 am]

BILLING CODE 7555-01-P